DEPARTMENT OF TRANSPORTATION

Federal Aviation Administration

14 CFR Part 39

[Docket No. FAA-2024-1890; Project Identifier MCAI-2024-00087-T; Amendment 39-22899; AD 2024-24-09]

RIN 2120-AA64

Airworthiness Directives; Airbus SAS Airplanes

AGENCY: Federal Aviation Administration (FAA), DOT.

ACTION: Final rule.

SUMMARY: The FAA is superseding Airworthiness Directive (AD) 2022-24-05, which applied to all Airbus SAS Model A318, A319, A320, and A321 series airplanes. AD 2022-24-05 required repetitive inspections of certain galleys for corrosion of trolley retainer aluminum blocks and delamination of the upper panel of the trolley compartment, and applicable corrective action. This AD was prompted by the list of affected galleys being revised, and a new modification that was developed to restore the design integrity of the affected galleys. This AD continues to require the actions in AD 2022-24-05, provides optional terminating action for the repetitive inspections, revises the list of affected parts, and prohibits the installation of affected parts under certain conditions; as specified in a European Union Aviation Safety Agency (EASA) AD, which is incorporated by reference. The FAA is issuing this AD to address the unsafe condition on these products.

DATES: This AD is effective January 13, 2025.

The Director of the Federal Register approved the incorporation by reference of a certain publication listed in this AD as of January 13, 2025.

ADDRESSES:

AD Docket: You may examine the AD docket at regulations.gov under Docket No. FAA-2024-1890; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu

• You may view this material at the FAA, Airworthiness Products Section, Operational Safety Branch, 2200 South 216th St., Des Moines, WA. For information on the availability of this material at the FAA, call 206-231-3195. It is also available at regulations.gov under Docket No. FAA-2024-1890.

FOR FURTHER INFORMATION CONTACT: Timothy Dowling, Aviation Safety Engineer, FAA, 1600 Stewart Avenue, Suite 410, Westbury, NY 11590; phone: 817-222-5102; email: Timothy.P.Dowling@faa.gov.

SUPPLEMENTARY INFORMATION:

Background

The FAA issued a notice of proposed rulemaking (NPRM) to amend 14 CFR part 39 to supersede AD 2022-24-05, Amendment 39-22245 (87 FR 74291, December 5, 2022) (AD 2022-24-05). AD 2022-24-05 applied to all Airbus SAS Model A318-111, -112, -121, and -122 airplanes; Model A319-111, -112, -113, -114, -115, -131, -132, -133, -151N, -153N, and -171N airplanes; Model A320-211, -212, -214, -216, -231, -232, -233, -251N, -252N, -253N, -271N, -272N, and -273N airplanes; and Model A321-111, -112, -131, -211, -212, -213, -231, -232, -251N, -251NX, -252N, -252NX, -253N, -253NX, -271N, -271NX, -272N, and -272NX airplanes. AD 2022-24-05 required repetitive inspections of certain galleys for corrosion of trolley retainer aluminum blocks and delamination of the upper panel of the trolley compartment, and applicable corrective actions. The FAA issued AD 2022-24-05 to address damage that could affect the galley's capability to hold the trolley under emergency landing loads, which could lead to trolley detachment, possibly resulting in blocking of an escape path during an emergency exit.

The NPRM published in the Federal Register on July 17, 2024 (89 FR 58086). The NPRM was prompted by AD 2024-0038, dated February 5, 2024, issued by EASA, which is the Technical Agent for the Member States of the European Union (EASA AD 2024-0038) (also referred to as the MCAI). The MCAI states that the list of affected galleys has been revised, and Airbus and the galley manufacturer have developed a modification to restore the design integrity of the affected galleys.

In the NPRM, the FAA proposed to continue to require the actions in AD 2022-24-05, provide optional terminating action for the repetitive inspections, revise the list of affected parts, and prohibit the installation of affected parts under certain conditions, as specified in EASA AD 2024-0038. The FAA is issuing this AD to address the unsafe condition on these products.

You may examine the MCAI in the AD docket at regulations.gov under Docket No. FAA-2024-1890.

Discussion of Final Airworthiness Directive

Comments

The FAA received a comment from Airbus. The following presents the comment received on the NPRM and the FAA's response.

Request To Include a Missing Part Number

Airbus requested ¹ that the FAA revise the NPRM to include a missing forward-facing galley part number. Airbus stated that the missing part number is 601891-006801, which is derived from the delivered part number 601891-001501 by the optional vendor service bulletin 601891-25-001501-002, as specified in Airbus Service Bulletin 25-1BK4.

¹ Airbus' comment on this AD was submitted directly to the FAA but has been placed into the rulemaking docket.

The FAA agrees to include forward-facing galley, part number 601891-006801, in this AD. Part number 601891-006801 is derived from the unsafe part number 601891-001501; therefore, part number 601891-006801 has the same unsafe condition. The FAA confirmed with EASA that part number 601891-006801 is an affected part. The FAA has added paragraph (h)(5) of this AD to include part number 601891-006801 as an affected part.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

EASA AD 2024-0038 includes the following provisions:

• Procedures for repetitive general visual inspections of certain galleys for discrepancies including corrosion of trolley retainer aluminum blocks and delamination of upper panel of trolley compartment;

• Corrective actions including repeating the inspection at an earlier interval, repairing the trolley compartment upper panel, and limiting the trolley weight;

• Procedures for modifying the affected galleys as optional terminating action for the repetitive inspections;

• A revised the list of affected galleys; and

• Prohibition of the installation of affected parts unless the parts are inspected and corrected.

This material is reasonably available because the interested parties have access to it through their normal course of business or by the means identified in the ADDRESSES section.

Costs of Compliance

The FAA estimates that this AD affects 1,425 airplanes of U.S. registry. The FAA estimates the following costs to comply with this AD:

Estimated Costs
Action | Labor cost | Parts cost | Cost per product | Cost on U.S. operators
Retained actions from AD 2022-24-05 | 2 work-hours × $85 per hour = $170 | $0 | $170 | $242,250

Estimated Costs for Optional Actions
Labor cost | Parts cost | Cost per product
Up to 40 work-hours × $85 per hour = $3,400 | (*) | Up to $3,400.*
* The FAA has received no definitive data on which to base the cost estimates for the parts associated with the modification specified in this AD.

The FAA estimates the following costs to do any necessary on-condition action that would be required based on the results of any required actions. The FAA has no way of determining the number of aircraft that might need this on-condition action:

Estimated Costs of On-Condition Costs
Labor cost | Parts cost | Cost per product
1 work-hours × $85 per hour = $85 | $0 | $85

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-24-05, Amendment 39-22245 (87 FR 74291, December 5, 2022); and

b. Adding the following new AD:

2024-24-09 Airbus SAS: Amendment 39-22899; Docket No. FAA-2024-1890; Project Identifier MCAI-2024-00087-T.

(a) Effective Date

This airworthiness directive (AD) is effective January 13, 2025.

(b) Affected ADs

This AD replaces AD 2022-24-05, Amendment 39-22245 (87 FR 74291, December 5, 2022) (AD 2022-24-05).

(c) Applicability

This AD applies to all Airbus SAS Model airplanes identified in paragraphs (c)(1) through (4) of this AD, certificated in any category.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 25, Equipment/Furnishings.

(e) Unsafe Condition

This AD was prompted by a report that damage (including delamination of work deck and corroded and cracked retainer blocks) was found during inspection of certain galleys. The FAA is issuing this AD to address damage that could affect the galley's capability to hold the trolley under emergency landing loads, which could lead to trolley detachment, possibly resulting in blocking of an escape path during an emergency exit.

(f) Compliance

Comply with this AD within the compliance times specified, unless already done.

(g) Requirements

Except as specified in paragraph (h) of this AD: Comply with all required actions and compliance times specified in, and in accordance with, European Union Aviation Safety Agency (EASA) AD 2024-0038, dated February 5, 2024 (EASA AD 2024-0038).

(h) Exceptions to EASA AD 2024-0038

(1) Where EASA AD 2024-0038 refers to “18 August 2021 [the effective date of the EASA AD 2021-0183 at original issue],” this AD requires using January 9, 2023 (the effective date of AD 2022-24-05).

(2) Where EASA AD 2024-0038 refers to its effective date, this AD requires using the effective date of this AD.

(3) This AD does not adopt the “Remarks” section of EASA AD 2024-0038.

(4) Where EASA AD 2024-0038 does not specify corrective action after a post-repair inspection that has findings of damage, this AD requires obtaining repair instructions before further flight from the FAA, EASA, or Airbus SAS's EASA Design Organization Approval (DOA), and accomplishing those actions accordingly. Any approval by the DOA must include the DOA-authorized signature.

(5) Where EASA AD 2024-0038 defines an affected part as “Forward-facing galleys, having a Part Number (P/N) as listed in Appendix 1 of this AD,” for this AD, replace that text with “Forward-facing galleys, having a Part Number (P/N) as listed in Appendix 1 of this AD, or having P/N 601891-006801.”

(i) No Reporting Requirement

Although material referenced in EASA AD 2024-0038 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (j)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Timothy Dowling, Aviation Safety Engineer, FAA, 1600 Stewart Avenue, Suite 410, Westbury, NY 11590; phone: 817-222-5102; email: Timothy.P.Dowling@faa.gov.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(i) European Union Aviation Safety Agency (EASA) AD 2024-0038, dated February 5, 2024.

(ii) [Reserved]

(3) For EASA material identified in this AD, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on November 25, 2024.
Peter A. White,
Deputy Director, Integrated Certificate Management Division, Aircraft Certification Service.

[FR Doc. 2024-28791 Filed 12-6-24; 8:45 am]

BILLING CODE 4910-13-P